DEPARTMENT OF EDUCATION

Tests Determined To Be Suitable for Use in the National Reporting System for Adult Education (NRS)

AGENCY: Office of Vocational and Adult Education, Department of Education.

ACTION: Notice.

SUMMARY: The Secretary announces the tests determined to be suitable for use in the NRS.

FOR FURTHER INFORMATION CONTACT: Mike Dean, U.S. Department of Education, 400 Maryland Avenue, SW., room 11152, Potomac Center Plaza, Washington, DC 20202-7240. Telephone: (202) 245-7828 or via Internet: Mike.Dean@ed.gov.

If you use a telecommunications device for the deaf (TDD), call the Federal Relay Service (FRS) at 1-800-877-8339.

Individuals with disabilities can obtain this document in an accessible format (e.g., braille, large print, audiotape, or computer diskette) on request to the contact person listed in the preceding paragraph.

SUPPLEMENTARY INFORMATION: On January 14, 2008, the Secretary published final regulations for 34 CFR part 462, Measuring Educational Gain in the National Reporting System for Adult Education, in the Federal Register (73 FR 2306) (NRS regulations). The NRS regulations established the process the Secretary uses to determine the suitability of tests for use in the NRS. On April 16, 2008, (73 FR 20616), the Secretary published a notice in the Federal Register providing test publishers an opportunity to submit tests for review under the regulations.

As a result of the Secretary's review of the tests submitted in response to the April 16, 2008 Federal Register notice, the following tests have been determined to be suitable for use in the NRS for a period of either seven or three years. A seven year approval requires no additional action on the part of the publisher, unless the information the publisher submitted as a basis for the Secretary's review was inaccurate or unless the test is substantially revised. A three year approval is issued with a set of conditions that must be met by the completion of the three year time period. If these conditions are met the test is approved for continued use in the NRS.

Tests Determined To Be Suitable for Use in the NRS for Seven Years

(a) The following test is determined to be suitable for use at all Adult Basic Education (ABE) and Adult Secondary Education (ASE) levels and at all English-as-a-Second-Language (ESL) levels of the NRS for a period of seven years from the date of publication of this notice:

Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, 952X. Publisher: CASAS, 5151 Murphy Canyon Road, Suite 220, San Diego, CA 92123-4339. Telephone: (800) 255-1036. Internet: http://www.casas.org.

(b) The following tests are determined to be suitable for use at all ABE and ASE levels of the NRS for a period of seven years from the date of publication of this notice:

(1) Comprehensive Adult Student Assessment Systems (CASAS) Life Skills Math Assessments—Application of Mathematics (Secondary Level). Forms 31, 32, 33, 34, 35, 36, 37, 38, 505, 506. Publisher: CASAS, 5151 Murphy Canyon Road, Suite 220, San Diego, CA 92123-4339. Telephone: (800) 255-1036. Internet: http://www.casas.org.

(2) Massachusetts Adult Proficiency Test (MAPT) for Math. Publisher: Massachusetts Department of Elementary and Secondary Education and University of Massachusetts Amherst, School of Education, 156 Hills South, University of Massachusetts, Amherst, MA 01003. Telephone: (413) 545-0564. Internet: http://www.sabes.org/assessment/mapt.htm.

(3) Massachusetts Adult Proficiency Test (MAPT) for Reading. Publisher: Massachusetts Department of Elementary and Secondary Education and University of Massachusetts Amherst, School of Education, 156 Hills South, University of Massachusetts, Amherst, MA 01003. Telephone: (413) 545-0564. Internet: http://www.sabes.org/assessment/mapt.htm.

(4) Tests of Adult Basic Education (TABE 9/10). Forms 9 and 10. Publisher: CTB/McGraw Hill, 20 Ryan Ranch Road, Monterey, CA 93940. Telephone: (800) 538-9547. Internet: http://www.ctb.com.

(5) Tests of Adult Basic Education Survey (TABE Survey). Forms 9 and 10. Publisher: CTB/McGraw Hill, 20 Ryan Ranch Road, Monterey, CA 93940. Telephone: (800) 538-9547. Internet: http://www.ctb.com.

(c) The following tests are determined to be suitable for use at all ESL levels of the NRS for a period of seven years from the date of publication of this notice:

(1) BEST (Basic English Skills Test) Literacy. Forms B, C, and D. Publisher: Center for Applied Linguistics, 4646 40th Street, NW., Washington, DC 20016-1859. Telephone: (202) 362-0700. Internet: http://www.cal.org.

(2) Tests of Adult Basic Education Complete Language Assessment System—English (TABE/CLAS-E). Forms A and B. Publisher: CTB/McGraw Hill, 20 Ryan Ranch Road, Monterey, CA 93940. Telephone: (800) 538-9547. Internet: http://www.ctb.com.

Tests Determined To Be Suitable for Use in the NRS for Three Years

(a) The following tests are determined to be suitable for use at all ABE and ASE levels and at all ESL levels of the NRS for a period of three years from the date of publication of this notice:

(1) Comprehensive Adult Student Assessment Systems (CASAS) Employability Competency System (ECS) Reading Assessments—Workforce Learning Systems (WLS). Forms 11, 12, 13, 14, 15, 16, 17, 18, 114, 116, 213, 214, 215, 216. Publisher: CASAS, 5151 Murphy Canyon Road, Suite 220, San Diego, CA 92123-4339. Telephone: (800) 255-1036. Internet: http://www.casas.org.

(2) Comprehensive Adult Student Assessment Systems (CASAS) Functional Writing Assessments. Forms 460, 461, 462, 463, 464, 465, 466. Publisher: CASAS, 5151 Murphy Canyon Road, Suite 220, San Diego, CA 92123-4339. Telephone: (800) 255-1036. Internet: http://www.casas.org.

(b) The following tests are determined to be suitable for use at all ABE and ASE levels of the NRS for a period of three years from the date of publication of this notice:

(1) Comprehensive Adult Student Assessment Systems (CASAS) Employability Competency System (ECS) Math Assessments—Workforce Learning Systems (WLS). Forms 11, 12, 13, 14, 15, 16, 17, 18, 213, 214, 215, 216. Publisher: CASAS, 5151 Murphy Canyon Road, Suite 220, San Diego, CA 92123-4339. Telephone: (800) 255-1036. Internet: http://www.casas.org.

(2) General Assessment of Instructional Needs (GAIN)—Test of English Skills. Forms A and B. Publisher: Wonderlic Inc., 1795 N. Butterfield Road, Suite 200, Libertyville, IL 60048-1212. Telephone: (888) 397-8519. Internet: http://www.wonderlic.com.

(3) General Assessment of Instructional Needs (GAIN)—Test of Math Skills. Forms A and B. Publisher: Wonderlic Inc., 1795 N. Butterfield Road, Suite 200, Libertyville, IL 60048-1212. Telephone: (888) 397-8519. Internet: http://www.wonderlic.com.

(c) The following tests are determined to be suitable for use at the High Intermediate, Low Adult Secondary, and High Adult Secondary levels of the NRS for a period of three years from the date of publication of this notice:

(1) WorkKeys: Applied Mathematics. Forms 210 and 220. Publisher: ACT, 500 ACT Drive, P.O. Box 168, Iowa City, Iowa 52243-0168. Telephone: (800) 967-5539. Internet: http://www.act.org.

(2) WorkKeys: Reading for Information. Forms 110 and 120. Publisher: ACT, 500 ACT Drive, P.O. Box 168, Iowa City, Iowa 52243-0168. Telephone: (800) 967-5539. Internet: http://www.act.org.

(d) The following tests are determined to be suitable for use at all ESL levels of the NRS for a period of three years from the date of publication of this notice:

(1) Basic English Skills Test (BEST) Plus. Publisher: Center for Applied Linguistics, 4646 40th Street, NW., Washington, DC 20016-1859. Telephone: (202) 362-0700. Internet: http://www.cal.org.

(2) Comprehensive Adult Student Assessment Systems (CASAS) Employability Competency System (ECS) Listening Assessments—Life Skills (LS). Forms 51, 52, 53, 54, 55, 56, 63, 64, 65, 66. Publisher: CASAS, 5151 Murphy Canyon Road, Suite 220, San Diego, CA 92123-4339. Telephone: (800) 255-1036. Internet: http://www.casas.org.

Revocation of Tests

The Secretary's determination regarding the suitability of a test may be revoked under certain circumstances (see 34 CFR 462.12(e)). If the Secretary revokes the determination regarding the suitability of a test, the Secretary publishes in the Federal Register and posts on the Internet at http://www.nrsweb.org a notice of that revocation along with the date by which States and local eligible providers must stop using the revoked test.

Electronic Access to This Document

You may view this document, as well as all other Department of Education documents published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number does not apply.)

Authority: 20 U.S.C. 9212.

Dated: January 28, 2010.
Brenda Dann-Messier,
Assistant Secretary for Vocational and Adult Education.

[FR Doc. 2010-2181 Filed 2-1-10; 8:45 am]

BILLING CODE 4000-01-P